DEPARTMENT OF JUSTICE

Parole Commission

Sunshine Act Meetings

Record of Vote of Meeting Closure

(Pub. L. 94-409) (5 U.S.C. 552b)

I, Patricia K. Cushwa, of the United States Parole Commission, was present at a meeting of said Commission, which started at approximately 1:30 p.m., on Wednesday, September 26, 2018 at the U.S. Parole Commission, 90 K Street NE, Third Floor, Washington, DC 20530. The purpose of the meeting was to discuss original jurisdiction cases pursuant to 28 CFR 2.25. and 28 CFR 2.68(i)(1) Two Commissioners were present, constituting a quorum when the vote to close the meeting was submitted.

Public announcement further describing the subject matter of the meeting and certifications of the General Counsel that this meeting may be closed by votes of the Commissioners present were submitted to the Commissioners prior to the conduct of any other business. Upon motion duly made, seconded, and carried, the following Commissioners voted that the meeting be closed: Patricia K. Cushwa and Charles T. Massarone.

In witness whereof, I make this official record of the vote taken to close this meeting and authorize this record to be made available to the public.

Dated: September 26, 2018.
Patricia K. Cushwa,
Acting Chairperson, U.S. Parole Commission.

[FR Doc. 2018-21566 Filed 9-28-18; 4:15 pm]

BILLING CODE 4410-31-P